DEPARTMENT OF HEALTH AND HUMAN SERVICES

National Institutes of Health

Office of the Director, National institutes of Health; Amended Notice of Meeting

Notice is hereby given of a change in the meeting the Recombinant DNA Advisory Committee, December 16, 2004, 8:30 a.m. to December 17, 2004, 6 p.m. Bethesda Marriott, 5151 Pooks Hill Road, Bethesda, MD 20814 which was published in the Federal Register on November 18, 2004, 69 FR 67597.

The meeting of the Recombinant DNA Advisory Committee has been changed to a one-day meeting on December 16, 2004, from 8:30 a.m. to 4:45 p.m. The meeting is open to the public.

Dated: November 19, 2004.
LaVerne Y. Stringfield,
Director, Office of Federal Advisory Committee Policy.

[FR Doc. 04-26257 Filed 11-26-04; 8:45 am]

BILLING CODE 4140-01-M